DEPARTMENT OF ENERGY

Notice of Request for Information (RFI) on the Building Technologies Office's Draft Connected Communities Funding Opportunity Announcement (DE-FOA-0002291)

AGENCY: Office of Energy Efficiency and Renewable Energy, Department of Energy (DOE).

ACTION: Request for information (RFI).

SUMMARY: The U.S. Department of Energy (DOE) invites public comment on its Request for Information (RFI) number DE-FOA-0002291 regarding the Building Technologies Office's (BTO) Draft Connected Communities Funding Opportunity Announcement (FOA).

This RFI pertains to a draft Funding Opportunity Announcement (FOA) planned to be issued by the Office of Energy Efficiency and Renewable Energy, Building Technologies Office in collaboration with the Vehicle Technologies Office (VTO), Solar Energy Technologies Office (SETO) and the Office of Electricity (OE) on Connected Communities of Grid-interactive Efficient Buildings. The purpose of this RFI is to solicit feedback from utilities, industry, academia, research laboratories, government agencies, and other stakeholders on issues related to Grid-interactive Efficient Buildings in Connected Communities. EERE is specifically interested in information on the draft Connected Communities FOA goals and design.

DATES: Responses to the RFI must be received by 5:00pm (ET) on Tuesday, May 12, 2020.

ADDRESSES: Interested parties are to submit comments electronically to CCPilotsRFI@ee.doe.gov. Include Connected Communities in the subject of the title. Responses must be provided as attachments to an email. Only electronic responses will be accepted. The complete RFI document is located at https://eere-exchange.energy.gov/.

FOR FURTHER INFORMATION CONTACT: Question may be addressed to CCPilotsRFI@ee.doe.gov, or Dale Hoffmeyer, (202)-586-8163, Dale.Hoffmeyer@ee.doe.gov. Further instruction can be found in the RFI document posted on EERE Exchange.

SUPPLEMENTARY INFORMATION: The goal of this potential FOA is to demonstrate, through regional pilots, the ability of groups of efficient buildings to provide additive benefits to the electricity system including peak demand reduction, reduced capacity and energy needs, and other grid services through demand flexibility. This includes the ability to reduce, shift and modulate load or generate energy in both existing and new communities across diverse climates, geographies, building types and grid/regulatory structures, while maintaining (if not enhancing) occupant satisfaction and productivity. Connected communities builds on BTO's current Grid-interactive Efficient Buildings (GEB) research initiative: https://www.energy.gov/eere/buildings/grid-interactive-efficient-buildings. DOE is seeking input from the public regarding the designs and goals of the potential FOA, including items such as: technical requirements; funding and cost share requirements; period of performance requirements; data sharing, measurement and validation requirements; and other relevant issues. The RFI is available at: https://eere-exchange.energy.gov/.

Confidential Business Information

Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signed in Washington, DC, on March 12, 2020.
David Nemtzow,
Director, Building Technologies Office.

[FR Doc. 2020-06553 Filed 3-27-20; 8:45 am]

BILLING CODE 6450-01-P